ENVIRONMENTAL PROTECTION AGENCY

[FRL-7119-6]

Extension of Public Comment Period for EPA Staff White Paper That Explores a Number of Options for Addressing Boutique Fuels in the Longer Term

AGENCY: Environmental Protection Agency.

ACTION: Extension of public comment period for EPA Staff White Paper that explores a number of options for addressing boutique fuels in the longer term.

In the November 14, 2001 Federal Register, (66 FR 57099) EPA published a notice of availability and requested public review and comment on the Staff White Paper entitled: “Study of Unique Gasoline Fuel Blends (“Boutique Fuels”), Effects on Fuel Supply and Distribution and Potential Improvements.” This notice extends the end of the public comment period to January 30, 2002.

FOR FURTHER INFORMATION CONTACT: Julia Macallister, Office of Air Quality and Transportation, (734) 214-4131, or by E-mail at macallister.julia@epa.gov.

Dated: December 12, 2001.
Robert Brenner,
Acting Assistant Administrator, Office of Air and Radiation, U.S. Environmental Protection Agency.

[FR Doc. 01-31244 Filed 12-18-01; 8:45 am]

BILLING CODE 6560-50-P